DEPARTMENT OF TRANSPORTATION

Federal Railroad Administration

Environmental Impact Statement for the California High Speed Rail System San Francisco to San Jose Section, CA

AGENCY: Federal Railroad Administration (FRA), Department of Transportation (DOT).

ACTION: Notice of Intent (NOI) to prepare an Environmental Impact Statement (EIS).

SUMMARY: Through this NOI, FRA announces its intent to jointly prepare an Environmental Impact Report (EIR) and Environmental Impact Statement (EIS) with the California High-Speed Rail Authority (Authority) for the San Francisco to San Jose Section of the California High-Speed Rail (HSR) System, Blended System Project (Blended System Project or Project). FRA invites the public and all interested parties to provide comments on the scope of the EIR/EIS, including the proposed purpose and need, the alternatives to consider, potential environmental impacts of concern, and methodologies for analysis of impacts. Through this NOI, FRA also rescinds its December 2008 NOI for the San Francisco to San Jose Section.

FRA and the Authority will develop the EIR/EIS in compliance with the California Environmental Quality Act (CEQA) and the National Environmental Policy Act of 1969 (NEPA). FRA and the Authority will hold scoping meetings and outreach activities as part of the NEPA/CEQA process. Federal cooperating agencies for the EIR/EIS are the Surface Transportation Board (STB) and the U.S. Army Corps of Engineers (USACE).

DATES: Written comments on the scope of the San Francisco to San Jose Section EIR/EIS must be provided to the Authority by June 8, 2016.

Public scoping meetings are scheduled in May 2016: FRA and the Authority will hold the scoping meetings between 5:00 p.m. and 8:00 p.m. at the following dates:

• San Francisco: Monday, May 23, 2016.

• San Mateo: Tuesday, May 24, 2016.

• Mountain View: Wednesday, May 25, 2016.

The Authority will make scoping materials and information concerning the scoping meetings available on the Authority's Web site: http://hsr.ca.gov/Programs/Statewide_Rail_Modernization/project_sections/sanfrancisco_sanjose.html.

ADDRESSES: You can send written comments on the scope to Mr. Mark McLoughlin, Director of Environmental Services, Attention: San Francisco to San Jose Section EIR/EIS, California High-Speed Rail Authority, 770 L Street, Suite 1160, Sacramento, CA 95814, or via email with subject line “San Francisco to San Jose Section EIR/EIS” to: comments@hsr.ca.gov.

You may provide comments orally or in writing at scoping meetings. FRA and the Authority will hold the scoping meetings between 5:00 p.m. and 8:00 p.m. at the following locations:

• San Francisco: University of California, San Francisco Mission Bay, 11500 Owens Street, San Francisco, CA 94158.

• San Mateo: San Mateo Marriott, 1770 South Amphlett Boulevard, San Mateo, CA 94402.

• Mountain View: SFV Lodge, 361 Villa Street, Mountain View, CA 94041.

FOR FURTHER INFORMATION CONTACT: Ms. Stephanie Perez, Environmental Protection Specialist, Office of Program Delivery, Federal Railroad Administration, 1200 New Jersey Avenue SE., (Mail Stop 20), Washington, DC 20590; Telephone: (202) 493-0388, email: stephanie.perez@dot.gov, or Mr. Guy Preston, Regional Delivery Manager, California High Speed Rail Authority, 100 Paseo de San Antonio, San Jose, CA 95113, Telephone: (408) 277-1091 or sanfrancisco_sanjose@hsr.ca.gov.

SUPPLEMENTARY INFORMATION: FRA is an operating administration of the U.S. Department of Transportation and is responsible for overseeing the safety of railroad operations, including the safety of any proposed high-speed ground transportation system. FRA is also authorized to provide, subject to appropriations, funding for high-speed and intercity passenger rail projects and is also authorized to provide loans and other financial support for railroad investments. FRA is conducting this review under NEPA because it may provide funding or financing for this project in the future. STB and USACE are Federal cooperating agencies on the EIS. STB has approval authority under 49 U.S.C. 10901 over the construction and operation of the proposed California HSR System. USACE has jurisdiction under Section 404 of the Clean Water Act.

The Authority was established in 1996 and is authorized and directed by statute to undertake the planning and development of a proposed statewide HSR network fully coordinated with other public transportation services. In 2005, the Authority and FRA completed a Final Program EIR/EIS for the Proposed California HSR System (Statewide Program EIR/EIS), as the first phase of a tiered environmental review process. The Statewide Program EIR/EIS analyzed a No Project/No Action Alternative; a Modal Alternative involving expanding freeways, airports, and conventional rail systems; and a HSR alternative using electric propulsion and steel-wheel-on-steel-rail vehicles capable of operating speeds of 220 mph on fully grade separated rail alignments with state-of-the-art safety, signaling, and communication systems. The Authority certified the Statewide Program EIR under CEQA and approved the proposed HSR System, and FRA issued a Record of Decision under NEPA on the Statewide Program EIS.

In approving the Statewide Program EIR/EIS, FRA and the Authority selected the HSR Alternative for intercity travel in California between the major metropolitan centers of Sacramento and the San Francisco Bay Area in the north, through the Central Valley, to Los Angeles and San Diego in the south. The Authority and FRA also selected certain corridors/general alignments and general station locations for further study; committed to mitigation strategies and design practices; and specified further measures to guide the development of the HSR system at the site-specific project level of environmental review to avoid and minimize potential adverse environmental impacts. FRA and the Authority did not select corridors or station locations between the Central Valley and the Bay Area in 2005. Rather, they decided to prepare a second program EIR/EIS for that area.

In 2008, the Authority and FRA further evaluated alignments and station locations within the broad corridor between and including the Altamont Pass and the Pacheco Pass to connect the Bay Area and Central Valley portions of the HSR system in the Bay Area to the Central Valley High-Speed Train Program EIR/EIS. Based on that EIR/EIS, the Authority and FRA selected the Pacheco Pass—San Francisco and San Jose termini network alternative, including corridor alignments and station location options. The selected corridor alignment uses the Caltrain rail right-of-way, between San Francisco and San Jose along the San Francisco Peninsula, and the Pacheco Pass via Henry Miller Road, between San Jose and the Central Valley.

In December 2008, the Authority and FRA respectively issued a notice of preparation and notice of intent to prepare an EIR/EIS for the project-level San Francisco to San Jose Section of the proposed California HSR System. In 2009, the Authority and FRA completed project scoping and provided the public with alternatives screening documents. These alternatives screening documents were for a rail corridor based on an entirely grade separated a four-track system between San Francisco and San Jose where HSR would share tracks with Caltrain express commuter trains. Communities along the Caltrain corridor expressed concerns with this proposal because of the perceived magnitude of impacts to environmental and community resources. In response to these concerns, the Authority suspended further work on the EIR/EIS in mid-2011 to consider blending the HSR and Caltrain operations within a smaller project footprint. In November 2011, the Authority proposed blended operations for the HSR section between San Francisco and San Jose, which would still provide HSR and Caltrain service between the two cities without requiring a four-track system for the Project.

The San Francisco to San Jose Section EIR/EIS will describe the Blended System Project in detail, identify site-specific environmental impacts from construction, operation, and maintenance of the Blended System Project; identify specific mitigation measures to address those impacts; and incorporate appropriate design practices to avoid and minimize potential adverse environmental impacts. The EIR/EIS will describe the site characteristics, size, nature, and timing of the proposed action as a basis for determining whether the impacts are potentially significant and whether impacts can be avoided, minimized, or mitigated. The Authority will provide information and documents regarding this EIR/EIS on the Authority's Web site: http://www.hsr.ca.gov.

The San Francisco to San Jose Section EIR/EIS will tier from, and build upon, the Statewide Program EIR/EIS and the Bay Area to Central Valley HSR Program EIR/EIS consistent with Council on Environmental Quality (CEQ) regulations, (40 CFR 1508.28) and State CEQA Guidelines (14 California Code of Regulations 15168(b)).

In addition to the NEPA and CEQA process, the Authority is required by law to publish a Business Plan, updated every two years, which includes a description of service type, chronology of statewide construction, estimate of capital costs per segment, operating and maintenance costs, environmental review schedule, and discussion of public and private funding availability. The Draft 2016 Business Plan, which the Authority released in February, describes a phased implementation of the statewide HSR system. The Draft 2016 Plan prioritizes construction between San Jose and the Central Valley, but also emphasizes the importance of extending HSR service from San Francisco to San Jose as soon as possible.

Purpose and Need

The purpose of the proposed HSR system is to provide a new mode of high-speed intercity travel that would link major metropolitan areas of the state; interface with international airports, mass transit, and highways; and provide added capacity to meet increases in intercity travel demand in California in a manner sensitive to and protective of California's unique natural resources. The need for a HSR system is directly related to the expected growth in population, and increases in intercity travel demand in California over the next twenty years and beyond. With the growth in travel demand, there will be an increase in travel delays arising from the growing congestion on California's highways and at airports. In addition, there will be negative effects on the economy, quality of life, and air quality in and around California's metropolitan areas from a transportation system that will become less reliable as travel demand increases. The intercity highway system, commercial airports, and conventional passenger rail serving the intercity travel market are currently operating at or near capacity, and will require large public investments for maintenance and expansion to meet existing demand and future growth. The proposed HSR System is designed to address some of the social, economic, and environmental problems associated with transportation congestion in California.

The San Francisco to San Jose Section meets this purpose and need by:

• Connecting the San Francisco Bay Area to the rest of the statewide HSR system, including the Central Valley and Southern California;

• Incorporating HSR into the intermodal hubs at San Francisco, Millbrae and San Jose, thereby providing interfaces with airports (San Francisco International Airport and Norman J. Mineta San Jose International Airport), mass transit (BART, Caltrain, Capitol Corridor, Amtrak, and light-rail and bus services), and highways, resulting in local and regional transportation hubs;

• Serving a large base of riders in the densely populated San Francisco and San Jose metropolitan areas; and

• Reaching station locations with existing and planned transit oriented development potential.

Alternatives

The San Francisco to San Jose Section EIR/EIS will consider a No Action or No Project Alternative and one or more HSR Alternatives for the San Francisco to San Jose corridor. The San Francisco to San Jose Section of the HSR system would connect to the San Jose to Merced Section at Diridon Station, which would extend HSR service from the San Francisco Bay Area to the Central Valley and Southern California.

No Action Alternative

The No Action Alternative (No Project or No Build) represents conditions in the San Francisco to San Jose corridor as they exist in 2016, and as they would exist in future years based on projected growth, programmed and funded improvements to the intercity transportation system, and other reasonably foreseeable projects through the implementation of Phase 1 operations in 2029, and a future year of operation in 2040. The No Action alternative takes into account the following sources of information: State Transportation Improvement Program; Regional Transportation Plans for all modes of travel; airport plans; intercity passenger rail plans; and city and county plans.

HSR Blended System Alternative(s)

The Blended System Project would follow the Caltrain right-of-way from San Francisco to San Jose. It would utilize existing and in-progress infrastructure Caltrain developed for its electrification project, but require construction in addition to electrification. The Blended System Project is anticipated to include the following, subject to continued planning and engineering following the scoping/outreach process:

New and/or Upgraded Infrastructure

• Track improvements to support higher speeds, including upgrades of tracks, trackbeds, ties, interlockings, and possible curve straightening;

• At least one passing track, with potential alternative locations for the passing track;

• One terminal storage maintenance facility, with potential alternative locations;

• Improvements to existing bridges necessary to accommodate mixed traffic;

• Potential grade separations necessary to support blended operations; and

• Installation of quad gates at remaining grade crossings.

Proposed Operations

• High-speed rail vehicles operating over mostly the same tracks between San Francisco and San Jose;

• Speeds of up to 110 miles per hour; and

• Operations plan that would allow for up to 4 HSR vehicles per hour/per direction in the peak period.

Upgrades to Existing Stations

• Raised and straightened platforms, platform screens (or other safety features) and passenger facilities at 4th & King, Millbrae and Diridon stations.

Transbay Transit Center (TTC) and Downtown Extension DTX projects

• The Authority proposes its Blended System Project will reach the TTC in San Francisco via the planned 1.3-mile extension of passenger rail track from the current terminus at the Caltrain 4th and King station.

• The Transbay Joint Powers Authority is the state lead agency for both projects, which have been the subject of separate environmental review.

• The TTC is currently under construction. The DTX is not yet under construction.

• Both projects will be addressed in the San Francisco to San Jose Section EIR/EIS.

During the Programmatic review phase, FRA and the Authority selected the Transbay Transit Center as the station location in the city of San Francisco. However, the Authority anticipates that the 4th and King Station would operate as an interim station until completion of the Transbay Transit Center which the Transbay Joint Powers Authority is constructing and funding. Other HSR stations would be located in the city of Millbrae at the existing Millbrae BART/Caltrain Station, and in the city of San Jose at the existing Diridon Station. FRA and Authority selected these locations through the Bay Area to Central Valley HSR Final Program EIR/EIS.

Probable Effects

The EIR/EIS will evaluate and document the effects of the proposed project on the physical, human, and natural environment. FRA and the Authority will continue the tiered evaluation of all potentially significant environmental, social, and economic impacts of the construction and operation of the HSR system. The San Francisco to San Jose EIR/EIS will address appropriate resource areas including: Transportation, including impacts on existing passenger and freight rail tenants; safety and security; land use and zoning; land acquisition, displacements, and relocations; cumulative and secondary impacts; cultural resource impacts, including impacts on historical and archaeological resources; parklands/recreation areas; neighborhood compatibility and environmental justice; geology and paleontology impacts; natural resource impacts including air quality, wetlands, water resources, noise and vibration, energy, wildlife and ecosystems, including endangered species, energy and hazardous materials. The EIR/EIS will also identify and evaluate measures to avoid, minimize, and mitigate adverse impacts.

The San Francisco to San Jose Section EIR/EIS will be prepared consistent with FRA's Procedures for Considering Environmental Impacts (64 FR 28545, May 26, 1999) and the CEQ's regulations implementing NEPA at 40 CFR parts 1500-1508. The San Francisco to San Jose Section EIR/EIS also will address, as necessary, other applicable statutes, regulations, and executive orders, including the Clean Air Act, Section 106 of the National Historic Preservation Act (Section 106) of 1966, Section 4(f) of the Department of Transportation Act, the Endangered Species Act, and Executive Order 12898 on Environmental Justice.

FRA funding or approval of the San Francisco to San Jose Section would be a Federal undertaking with the potential to affect historic properties. As such, it is subject to the requirements of Section 106. Consistent with the Advisory Council on Historic Preservation's (ACHP) regulations implementing Section 106, FRA intends to coordinate compliance with Section 106 of this Act with the preparation of the San Francisco to San Jose Section EIR/EIS, beginning with the identification of consulting parties in a manner consistent with the standards set out in 36 CFR 800.8. Under the Programmatic Agreement among FRA, ACHP, the California State Historic Preservation Officer, and the Authority, FRA and the Authority will conduct a phased review of effects on historic properties consistent with 36 CFR 800.4(b)(2). FRA invites the public and interested parties to provide comments on the potential effects of the proposed alternatives on historic properties within the San Francisco to San Jose Section. In response to this NOI, a member of the public or other interested party may also request to participate in the Section 106 process as a consulting party under 36 CFR part 800.

Scoping and Comments

FRA encourages broad participation in the EIS process during scoping and review of the resulting environmental documents. FRA invites Native American Tribes, interested agencies, and the public at large to participate in the scoping process to ensure the EIR/EIS addresses the full range of issues related to the proposed action and reasonable alternatives, and that all significant issues are identified. FRA requests that any public agency having jurisdiction over an aspect of the Project identify the applicable permit and environmental review requirements of the agency and the scope and content of the environmental information germane to the agency's jurisdiction over the Project. Public agencies are requested to advise FRA if they anticipate taking a major action in connection with the proposed project and if they wish to participate as a cooperating agency for the San Francisco to San Jose Section EIR/EIS.

FRA and the Authority have scheduled public scoping meetings which are an important component of the scoping process for both the State and Federal environmental review. The Authority will advertise the scoping meetings described in this NOI locally and be included with any additional public notification.

Issued in Washington, DC, on May 4, 2016.
Jamie Rennert,
Director, Office of Program Delivery.

[FR Doc. 2016-10959 Filed 5-6-16; 8:45 am]

BILLING CODE 4910-06-P